DEPARTMENT OF THE INTERIOR

Bureau of Land Management

[15X LLAKF02000.L16100000. DS0000.LXSILCYK0000]

Notice of Planning Area Boundary Changes for Bureau of Land Management Resource Management Plans in Alaska; Amendment to Notices of Intent To Prepare Resource Management Plans for Central Yukon and Bering Sea-Western Interior Planning Areas and Associated Environmental Impact Statements

AGENCY: Bureau of Land Management, Interior.

ACTION: Notice.

SUMMARY: The administrative boundaries between the Anchorage District Office and Fairbanks District Office have been changed. The administrative boundary adjustments affect two ongoing Bureau of Land Management (BLM) planning efforts by shifting 2.8 million acres of the Central Yukon Planning Area, managed by the Fairbanks District Office, into the Bering Sea-Western Interior Planning Area, managed by the Anchorage District Office; and by removing three islands from the Bering Sea-Western Interior Planning Area.

DATES: These boundary changes were effective on January 9, 2015.

FOR FURTHER INFORMATION CONTACT: Bridget Psarianos or Serena Sweet, BLM Alaska State Office, 907-271-4208 and 907-271-4543, respectively. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: On January 9, 2015, the BLM Director approved administrative boundary adjustments between the Fairbanks District Office and the Anchorage District Office. The primary purposes for these administrative boundary changes are to improve service to the public, and to improve coordination efforts with local, Federal, and State agencies, tribal governments, and Alaska Native Claims Settlement Act (ANCSA) corporations. The changes create a contiguous management block of land in Western Alaska, facilitate better tribal consultation and coordination, and provide for improved landscape management planning for key habitats. The district offices conducted public outreach meetings with affected communities, ANCSA corporations, and other organizations and entities, and have received support for the proposed changes.

The BLM issued notices of intent on June 14, 2013, and July 18, 2013, respectively, to prepare resource management plans (RMPs) for the Central Yukon and Bering Sea-Western Interior planning areas. The administrative boundary adjustments will shift 2.8 million acres of the Central Yukon Planning Area into the Bering Sea-Western Interior Planning Area. The 2.8 million-acre area of land is referred to as the “Nulato Hills.” The boundary adjustment transferred the eastern portion of the Nulato Hills, including all of those lands within the boundary of the NANA Corporation, an ANCSA corporation, from the Fairbanks District Office to the Anchorage Field Office.

Three islands located off the coast of Alaska will also be removed from the Bering Sea-Western Interior Planning Area. Saint Lawrence Island is removed from the planning area as the few remaining acres of BLM-managed land have been selected by two ANCSA village corporations, effectively leaving no public lands for the BLM to manage. Saint Mathew Island is removed from the planning area because all of the lands on the island are managed by the U.S. Fish and Wildlife Service and designated as “Wilderness.” Oil and gas development is prohibited on lands designated as Wilderness. Nunivak Island is also removed from the planning area. There are portions of the island that are not designated Wilderness and would be subject to BLM-administration of oil and gas leasing. However, these lands have a very low likelihood of oil and gas potential. Should future BLM oil and gas potential studies (or industry) indicate otherwise, oil and gas leasing would need to be found to be in the national interest and compatible with the purpose of the Nunivak Island National Wildlife Refuge. If this occurs, in compliance with the National Environmental Protection Act process, an amendment would be necessary for both the Bering Sea-Western Interior Resource Management Plan, and the U.S. Fish and Wildlife Service's Yukon Delta National Wildlife Refuge final Comprehensive Conservation Plan (1988).

Authority: 43 CFR 1601.2.

Ted A. Murphy,
Associate State Director.

[FR Doc. 2015-25538 Filed 10-6-15; 8:45 am]

BILLING CODE 4310-JA-P